DEPARTMENT OF ENERGY

Federal Energy Regulatory Commission

[Docket No. CP06-89-000; Docket Nos. CP06-90-000, CP06-91-000, and CP06-92-000]

Northern Natural Gas Company; WTG Hugoton, LP; Notice of Applications

March 22, 2006.

Take notice that on March 15, 2006, Northern Natural Gas Company (Northern), 1111 South 103rd Street, Omaha, Nebraska 68124, filed in Docket No. CP06-89-000 an application pursuant to section 7(b) of the Natural Gas Act (NGA) and part 157 of the Commission's Regulations, for permission and approval to abandon by sale various natural gas pipeline facilities, referred to as the West Hugoton facilities, located in various Kansas and Oklahoma counties, to WTG Hugoton, LP (WTG), 211 North Colorado, Midland Texas 79701. On the same date, WTG filed an application, in Docket No. CP06-90-000, pursuant to section 7(c) of the NGA and Part 157 of the Commission's regulations requesting a certificate of public convenience and necessity to acquire, own, and operate the West Hugoton facilities. WTG also requests, in Docket Nos. CP06-91-000 and CP06-92-000, respectively, issuance of a blanket certificates pursuant to subpart F of part 157 and subpart G of part 284 of the Commission's regulations. Northern's and WTG's applications are on file with the Commission and open to public inspection. These filings may also be viewed on the Commission's Web site at http://www.ferc.gov using the “eLibrary” link, select “Docket #” and follow the instructions (call 202-502-8222 or for TTY, 202-502-8659).

Specifically, Northern proposes to abandon by sale to WTG approximately 264 miles of 3-inch to 26-inch diameter pipeline and related compression, delivery and receipt points and appurtenant facilities in Morton, Stevens, Grant, Kearny, Finney, Seward, and Haskell Counties in Kansas, and Texas County in Oklahoma for a price of approximately $24 million. Northern also proposes to establish a new Rate Schedule CS-1 to provide stand-alone compression service, at an incremental rate, that is needed for WTG to continue to make deliveries on the Liberal Lateral portion of the West Hugoton facilities in accordance with the terms of Northern's existing firm service agreements. Neither Northern nor WTG are requesting authorization to construct or remove any facilities. Upon certification, WTG will be a new, open access interstate pipeline company. WTG states that it will continue to provide firm and interruptible service to all shippers currently served by Northern through the West Hugoton facilities. WTG requests issuance of an order by September 30, 2006.

Any questions regarding this application should be directed to Michael T. Loeffler, Director, Certificates for Northern, 1111 South 103rd Street, Omaha, Nebraska 68124, at (402) 398-7103, or Richard Hatchet at 211 North Colorado, Midland, Texas 79701, at (432)682-4349 or by fax at (432)682-4024 or by e-mail to rhatchett@westtexasgas.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See, 18 CFR 385.2001(a) (1) (iii) and the instructions on the Commission's Web site under the “e-Filing” link.

Comment Date: 5 p.m. Eastern Time on April 12, 2006.

Magalie R. Salas,
Secretary.

[FR Doc. E6-4454 Filed 3-27-06; 8:45 am]

BILLING CODE 6717-01-P